DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: May 19, 2016.
Roy E. Wright,
Deputy Associate Administrator for Insurance and Mitigation, Department of Homeland Security, Federal Emergency Management Agency.

State and county | Location and case No. | Chief executive officer of community | Community map repository | Effective date of modification | Community No.
Alabama:
Jefferson (FEMA Docket No.: B-1600) | Unincorporated areas of Jefferson County (15-04-9295P) | The Honorable Jimmie Stephens, Chairman, Jefferson County Commission, 716 Richard Arrington Jr. Boulevard, North Birmingham, AL 35203 | Jefferson County Land Development Department, 716 Richard Arrington Jr. Boulevard, North Birmingham, AL 35203 | April 14, 2016 | 010217
Colorado:
Denver (FEMA Docket No.: B-1600) | City and County of Denver (15-08-0294P) | The Honorable Michael B. Hancock, Mayor, City and County of Denver, 1437 Bannock Street, Suite 350, Denver, CO 80202 | Department of Public Works, 201 West Colfax Avenue, Denver, CO 80202 | April 15, 2016 | 080046
Fremont (FEMA Docket No.: B-1600) | Town of Williamsburg (15-08-0985P) | The Honorable Joshua Baker, Mayor, Town of Williamsburg, 1 John Street, Williamsburg, CO 81226 | City Hall, 1 John Street, Williamsburg, CO 81226 | April 14, 2016 | 080028
Fremont (FEMA Docket No.: B-1600) | Unincorporated areas of Fremont County (15-08-0985P) | The Honorable Ed Norden, Chairman, Fremont County Board of Commissioners, 615 Macon Avenue, Canon City, CO 81212 | Fremont County Administrator's Office, 615 Macon Avenue, Canon City, CO 81212 | April 14, 2016 | 080067
Jefferson (FEMA Docket No.: B-1600) | City of Lakewood (15-08-0294P) | The Honorable Bob Murphy, Mayor, City of Lakewood, Lakewood Civic Center South, 480 South Allison Parkway, Lakewood, CO 80226 | Public Works Department, Lakewood Civic Center North, 480 South Allison Parkway, Lakewood, CO 80226 | April 15, 2016 | 085075
Larimer (FEMA Docket No.: B-1600) | City of Fort Collins (15-08-1293P) | The Honorable Wade Troxell, Mayor, City of Fort Collins, P.O. Box 580, Fort Collins, CO 80522 | Stormwater Utilities Department, 700 Wood Street, Fort Collins, CO 80521 | March 28, 2016 | 080102
Delaware: New Castle (FEMA Docket No.: B-1600) | Unincorporated areas of New Castle County (14-03-3246P) | The Honorable Thomas P. Gordon, New Castle County Executive, 87 Reads Way, New Castle, DE 19720 | New Castle County Land Use Department, 87 Reads Way, New Castle, DE 19720 | April 15, 2016 | 105085
Florida:
Lee (FEMA Docket No.: B-1600) | Unincorporated areas of Lee County (15-04-9971X) | The Honorable Brian Hamman, Chairman, Lee County Board of Commissioners, P.O. Box 398, Fort Myers, FL 33902 | Lee County Planning and Zoning Department, 1500 Monroe Street, Fort Myers, FL 33901 | March 30, 2016 | 125124
Miami-Dade (FEMA Docket No.: B-1600) | City of Miami (15-04-9564P) | The Honorable Tomás P. Regalado, Mayor, City of Miami, 3500 Pan American Drive, Miami, FL 33133 | Building Department, 444 Southwest 2nd Avenue, 4th Floor, Miami, FL 33130 | March 22, 2016 | 120650
Osceola (FEMA Docket No.: B-1600) | City of Kissimmee (14-04-A481P) | The Honorable Jim Swan, Mayor, City of Kissimmee, 101 Church Street, Kissimmee, FL 34741 | Engineering Department, 101 Church Street, Kissimmee, FL 34741 | April 15, 2016 | 120190
Osceola (FEMA Docket No.: B-1600) | Unincorporated areas of Osceola County (14-04-A481P) | The Honorable Brandon Arrington, Chairman, Osceola County Board of Commissioners, 1 Courthouse Square, Suite 4700, Kissimmee, FL 34741 | Osceola County Stormwater Department, 1 Courthouse Square, Suite 3100, Kissimmee, FL 34741 | April 15, 2016 | 120189
St. Johns, (FEMA Docket No.: B-1600) | Unincorporated areas of St. Johns County (15-04-9919P) | The Honorable Rachael L. Bennett, Chair, St. Johns County Board of Commissioners, 500 San Sebastian View, St. Augustine, FL 32084 | St. Johns County Building Services Division, 4040 Lewis Speedway, St. Augustine, FL 32084 | April 13, 2016 | 125147
Georgia: Columbia (FEMA Docket No.: B-1605) | Unincorporated areas of Columbia County (15-04-7397P) | The Honorable Ron C. Cross, Chairman, Columbia County Board of Commissioners, P.O. Box 498, Evans, GA 30809 | Columbia County Engineering Services Department, 630 Ronald Reagan Drive, Building A, East Wing, Evans, GA 30809 | March 31, 2016 | 130059
Massachusetts:
Plymouth (FEMA Docket No.: B-1605) | Town of Lakeville (15-01-2489P) | The Honorable Aaron Burke, Chairman, Town of Lakeville Board of Selectmen, 346 Bedford Street, Lakeville, MA 02347 | Town Hall, 346 Bedford Street, Lakeville, MA 02347 | March 25, 2016 | 250271
Plymouth (FEMA Docket No.: B-1605) | Town of Middleborough (15-01-2489P) | The Honorable Allin Frawley, Chairman, Town of Middleborough Board of Selectmen, 10 Nickerson Avenue, Middleborough, MA 02346 | Planning Department, Town Hall Annex, 20 Centre Street, Middleborough, MA 02346 | March 25, 2016 | 250275
Plymouth (FEMA Docket No.: B-1605) | Town of Rochester (15-01-2489P) | The Honorable Richard D. Nunes, Chairman, Town of Rochester Board of Selectmen, 1 Constitution Way, Rochester, MA 02770 | Town Hall Annex, 37 Marion Road, Rochester, MA 02770 | March 25, 2016 | 250280
North Carolina:
Haywood (FEMA Docket No.: B-1600) | Unincorporated areas of Haywood County (15-04-9975P) | The Honorable Mark S. Swanger, Chairman, Haywood County Board of Commissioners, 215 North Main Street, Waynesville, NC 28786 | Haywood County Planning Department, 157 Paragon Parkway, Suite 200, Clyde, NC 28721 | April 5, 2016 | 370120
Orange (FEMA Docket No.: B-1607) | Town of Chapel Hill (15-04-3876P) | The Honorable Pam Hemminger, Mayor, Town of Chapel Hill, 405 Martin Luther King Jr. Boulevard, Chapel Hill, NC 27514 | Public Works Department, Stormwater Division, 405 Martin Luther King Jr. Boulevard, Chapel Hill, NC 27514 | April 4, 2016 | 370180
Oklahoma: Tulsa (FEMA Docket No.: B-1605) | City of Tulsa (15-06-0947P) | The Honorable Dewey Bartlett, Jr., Mayor, City of Tulsa, 175 East 2nd Street, Tulsa, OK 74103 | Development Services Department, 175 East 2nd Street, Tulsa, OK 74103 | April 15, 2016 | 405381
Pennsylvania: Delaware (FEMA Docket No.: B-1605) | Township of Haverford (15-03-2347P) | The Honorable Lawrence J. Gentile, Manager, Township of Haverford, 2325 Darby Road, Havertown, PA 19083 | Department of Community Development, 2325 Darby Road, Havertown, PA 19083 | March 14, 2016 | 420417
South Carolina:
Charleston (FEMA Docket No.: B-1600) | City of Charleston (15-04-9773P) | The Honorable Joseph P. Riley, Jr., Mayor, City of Charleston, P.O. Box 652, Charleston, SC 29402 | Building Inspections Department, 2 George Street, Charleston, SC 29401 | March 28, 2016 | 455412
Greenville (FEMA Docket No.: B-1605) | Unincorporated areas of Greenville County (15-04-5639P) | The Honorable Bob Taylor, Chairman, Greenville County Council, 301 University Ridge, Suite 2400, Greenville, SC 29601 | Greenville County Planning and Code Compliance Department, 301 University Ridge, Suite 4100, Greenville, SC 29601 | March 18, 2016 | 450089
York (FEMA Docket No.: B-1605) | City of Rock Hill (15-04-2163P) | The Honorable Doug Echols, Mayor, City of Rock Hill, 155 Johnston Street, Suite 210, Rock Hill, SC 29730 | City Hall, 155 Johnston Street, Suite 300, Rock Hill, SC 29730 | March 29, 2016 | 450196
York (FEMA Docket No.: B-1605) | Unincorporated areas of York County (15-04-2163P) | The Honorable J. Britt Blackwell, Chairman, York County Council, 6 South Congress Street, York, SC 29745 | York County Heckle Complex, 1070 Heckle Boulevard, Suite 107, York, SC 29732 | March 29, 2016 | 450193
South Dakota:
Codington (FEMA Docket No.: B-1600) | City of Watertown (15-08-0555P) | The Honorable Steve Thorson, Mayor, City of Watertown, 23 2nd Street Northeast, Watertown, SD 57201 | City Hall, 23 2nd Street Northeast, Watertown, SD 57201 | March 22, 2016 | 460016
Codington (FEMA Docket No.: B-1600) | Unincorporated areas of Codington County (15-08-0555P) | The Honorable Elmer Brinkman, Chairman, Codington County Board of Commissioners, 14 1st Avenue Southeast, Watertown, SD 57201 | Codington County Planning and Zoning Department, 1910 West Kemp Avenue, Watertown, SD 57201 | March 22, 2016 | 460260
Tennessee:
Fayette (FEMA Docket No.: B-1605) | Town of Oakland (15-04-9364P) | The Honorable Chris Goodman, Mayor, Town of Oakland, P.O. Box 56, Oakland, TN 38060 | Building Department, 75 Clay Street, Oakland, TN 38060 | March 31, 2016 | 470418
Fayette (FEMA Docket No.: B-1605) | Unincorporated areas of Fayette County (15-04-9364P) | The Honorable Rhea Taylor, Mayor, Fayette County, P.O. Box 218, Somerville, TN 38068 | Fayette County Planning and Development Department, 16265 U.S. Highway 64, Somerville, TN 38068 | March 31, 2016 | 470352
Texas:
Bell (FEMA Docket No.: B-1600) | City of Temple (15-06-3320P) | The Honorable Danny Dunn, Mayor, City of Temple, 2 North Main Street, Suite 103, Temple, TX 76501 | Engineering Department, 3210 East Avenue H, Building A, Suite 107, Temple, TX 76501 | April 12, 2016 | 480034
Bexar (FEMA Docket No.: B-1605) | Unincorporated areas of Bexar County (15-06-1291P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | March 30, 2016 | 480035
Collin (FEMA Docket No.: B-1600) | City of Frisco (15-06-1583P) | The Honorable Maher Maso, Mayor, City of Frisco, 6101 Frisco Square Boulevard, Frisco, TX 75034 | Engineering Services Department, 6101 Frisco Square Boulevard, Frisco, TX 75034 | March 21, 2016 | 480134
Comal (FEMA Docket No.: B-1600) | City of New Braunfels (15-06-4062P) | The Honorable Barron Casteel, Mayor, City of New Braunfels, 424 South Castell Avenue, New Braunfels, TX 78130 | Building Division, 424 South Castell Avenue, New Braunfels, TX 78130 | March 31, 2016 | 485493
El Paso (FEMA Docket No.: B-1600) | City of El Paso (15-06-3494P) | The Honorable Oscar Leeser, Mayor, City of El Paso, 300 North Campbell Street, El Paso, TX 79901 | Land Development Department, 801 Texas Avenue, El Paso, TX 79901 | April 14, 2016 | 480214
Grimes (FEMA Docket No.: B-1600) | Unincorporated areas of Grimes County (15-06-3274P) | The Honorable Ben Leman, Grimes County Judge, P.O. Box 160, Anderson, TX 77830 | Grimes County Road and Bridge Engineering Department, 1010 Highway 90 South, Anderson, TX 77830 | April 14, 2016 | 481173
Rockwall (FEMA Docket No.: B-1600) | City of Rockwall (15-06-0488P) | The Honorable Jim Pruitt, Mayor, City of Rockwall, 385 South Goliad Street, Rockwall, TX 75087 | City Hall, 385 South Goliad Street, Rockwall, TX 75087 | March 28, 2016 | 480547
Travis (FEMA Docket No.: B-1600) | City of Manor (15-06-2824P) | The Honorable Rita G. Jonse, Mayor, City of Manor, P.O. Box 387, Manor, TX 78653 | City Hall, 201 East Parsons Street, Manor, TX 78653 | April 11, 2016 | 481027
Travis (FEMA Docket No.: B-1600) | Unincorporated areas of Travis County (15-06-2824P) | The Honorable Sarah Eckhardt, Travis County Judge, P.O. Box 1748, Austin, TX 78767 | Travis County Office of Emergency Management, 5010 Old Manor Road, Austin, TX 78723 | April 11, 2016 | 481026
Williamson (FEMA Docket No.: B-1605) | City of Cedar Park (15-06-3037P) | The Honorable Matthew Powell, Mayor, City of Cedar Park, 450 Cypress Creek Road, Cedar Park, TX 78613 | Public Works Department, 2401 Brushy Creek Loop, Cedar Park, TX 78613 | March 31, 2016 | 481282
Williamson (FEMA Docket No.: B-1605) | Unincorporated areas of Williamson County (15-06-3037P) | The Honorable Dan A. Gattis, Williamson County Judge, 710 South Main Street, Suite 101, Georgetown, TX 78626 | Williamson County Engineer's Office, 3151 Southeast Inner Loop, Suite B, Georgetown, TX 78626 | March 31, 2016 | 481079
Virginia:
Fairfax (FEMA Docket No.: B-1600) | Unincorporated areas of Fairfax County (15-03-1692P) | The Honorable Edward L. Long, Jr., Fairfax County Executive, 12000 Government Center Parkway, Fairfax, VA 22035 | Fairfax County Stormwater Planning Division, 12000 Government Center Parkway, Fairfax, VA 22035 | March 29, 2016 | 515525

[FR Doc. 2016-15755 Filed 7-1-16; 8:45 am]

BILLING CODE 9110-12-P